FEDERAL COMMUNICATIONS COMMISSION

47 CFR Part 73

[DA 00-1109; MM Docket No. 99-115; RM-9378]

Radio Broadcasting Services; Clio and Tuscola, MI

AGENCY: Federal Communications Commission.

ACTION: Proposed rule; denial.

SUMMARY: The Notice in this proceeding proposed the reallotment of Channel 268A from Tuscola, Michigan, to Clio, Michigan, and modification of the license for Station WWBN accordingly. The Notice was issued in response to a petition filed by Faircom Flint Inc. See 64 FR 18569, 1999. Based on the information submitted, it has been determined that the reallotment from Tuscola to Clio does not provide a public interest benefit of enough significance to outweigh the loss of a transmission service to Tuscola or offset the disruption of an existing service. Therefore, the proposed reallotment from Tuscola to Clio has been denied. With this action, this docketed proceeding is terminated.

FOR FURTHER INFORMATION CONTACT: Kathleen Scheuerle, Mass Media Bureau, (202) 418-2180.

SUPPLEMENTARY INFORMATION: This is a summary of the Commission's Report and Order, MM Docket No. 99-115, adopted May 10, 2000, and released May 19, 2000. The full text of this Commission decision is available for inspection and copying during normal business hours in the Commission's Reference Center, 445 12th Street, SW, Washington, DC. The complete text of this decision may also be purchased from the Commission's copy contractors, International Transcription Services, Inc., 1231 20th Street, NW, Washington, DC 20036, (202) 857-3800, facsimile (202) 857-3805.

Federal Communications Commission.
John A. Karousos,
Chief, Allocations Branch, Policy and Rules Division, Mass Media Bureau.

[FR Doc. 00-13596 Filed 5-31-00; 8:45 am]

BILLING CODE 6712-01-P